DEPARTMENT OF TRANSPORTATION

Pipeline and Hazardous Materials Safety Administration

Notice of Applications for Modification of Special Permit

AGENCY: Office of Hazardous Materials Safety, Pipeline and Hazardous Materials Safety Administration (PHMSA), DOT.

ACTION: List of Applications for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before November 30, 2011.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACTS: Copies of the applications are available for inspection in the Records Center, East Building, PHH-30, 1200 New Jersey Avenue Southeast, Washington DC or at http://regulations.gov.

This notice of receipt of applications for modification of special permit is published in accordance with part 107 of the Federal hazardous materials transportation law (49 U.S.C. 5117(b); 49 CFR 1.53(b)).

Issued in Washington, DC, on November 3, 2011.
Donald Burger,
Chief, General Approvals and Permits.

Modification Special Permits
Application No. | Docket No. | Applicant | Regulation(s) affected | Nature of special permit thereof
11526-M |  | Linde Gas North America LLC Bear, DE | 49 CFR 180.209 | To modify the special permit to authorize ultrasonic examination of certain steel cylinders.
12399-M |  | Linde Gas North America LLC Murray Hill, NJ | 49 CFR 180.209 | To modify the special permit to authorize ultrasonic examination of certain aluminum cylinders.
12706-M |  | RAGASCO AS Raufoss, NO | 49 CFR 173.34; 173.201; 173.301; 173.304 | To modify the special permit to authorize an alternative test and inspection procedure.
13350-M |  | National Aeronautics & Space Administration (NASA) Washington, DC | 49 CFR 173.201 | To modify the special permit to authorize additional transportation locations.
14509-M |  | Pacific Consolidated Industries, LLC Riverside, CA | 49 CFR 173.302 (a)(1), 173.304a (a)(1), 175.3 | To modify the special permit to authorize the transportation of cylinders containing oxidizing gases without a rigid outer packaging capable of passing the Flame Penetration and Resistance Test and the Thermal Resistance Test
14574-M |  | KMG Electronic Chemicals Houston, TX | 49 CFR 180.407(c), (e) and (f) | To modify the special permit to authorize additional Class 8 hazardous materials and to add 19 new cargo tanks.
14728-M |  | International Isotopes Inc. Idaho Falls, ID | 49 CFR 173.416(c) | To modify the special permit to authorize an increase in the number of times the packaging can be used.
14977-M |  | REC Advanced Silicon Materials LLC Silver Bow, MT | 49 CFR 173.301(f) | To modify the special permit to authorize the transportation in commerce of certain DOT Specification cylinders and ton containers containing Silane without pressure relief devices.
15036-M |  | UTLX Manufacturing, Incorporated Alexandria, LA | 49 CFR 173.31(e) (2)(ii), 173.244 (a)(2), 173.314, 179.100, 179.101, 179.102-3, 179.15(b) and 179.16 | To modify the special permit to authorize the manufacture, marking, sale and use of three additional non-DOT specification tank cars for transportation of chlorine and certain other materials toxic by inhalation.

[FR Doc. 2011-28983 Filed 11-14-11; 8:45 am]

BILLING CODE 4909-60-M